DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground ‸Elevation in meters (MSL) Modified | Communities affected
Butler County, Kentucky, and Incorporated Areas
Docket No.: FEMA-B-1089
Barren River (Backwater effects from Green River) | From the confluence with the Green River to approximately 0.6 mile upstream of the confluence with Little Muddy Creek | +424 | Unincorporated Areas of Butler County.
Big Bull Creek (Backwater effects from Green River) | From the confluence with the Green River to approximately 0.5 mile upstream of Johnson Cemetery Road | +428 | Unincorporated Areas of Butler County.
Big Reedy Creek (Backwater effects from Green River) | From the confluence with the Green River to approximately 1,202 feet downstream of the confluence with Big Reedy Creek Tributary 4 | +433 | Unincorporated Areas of Butler County.
Deerlick Creek (Backwater effects from Green River) | From the confluence with the Mud River to approximately 935 feet upstream of Penrod Road | +404 | Unincorporated Areas of Butler County.
Deerlick Creek Tributary 6 (Backwater effects from Green River) | From the confluence with Deerlick Creek to approximately 765 feet upstream of the confluence with Deerlick Creek | +404 | Unincorporated Areas of Butler County.
East Prong Indian Camp Creek (Backwater effects from Green River) | From the confluence with Indian Camp Creek to approximately 1,179 feet downstream of the confluence with East Prong Indian Camp Creek | +415 | Unincorporated Areas of Butler County.
Gary Creek (Backwater effects from Green River) | From the confluence with Little Reedy Creek to approximately 0.9 mile upstream of the confluence with Little Reedy Creek | +429 | Unincorporated Areas of Butler County.
Grassy Lick Creek (Backwater effects from Green River) | From the confluence with Muddy Creek to approximately 1.1 mile downstream of Sandy Creek Road | +407 | Unincorporated Areas of Butler County.
Green River | At the confluence with the Mud River | +404 | City of Morgantown, City of Rochester, City of Woodbury, Unincorporated Areas of Butler County.
| At approximately 1.7 mile upstream of Reedyville Road | +438
Hickory Camp Creek (Backwater effects from Green River) | From the confluence with Panther Creek to approximately 478 feet upstream of the confluence with Hickory Camp Creek Tributary 1 | +405 | Unincorporated Areas of Butler County.
Hickory Camp Creek Tributary 1 (Backwater effects from Green River) | From the confluence with Hickory Camp Creek to approximately 676 feet upstream of the confluence with Hickory Camp Creek | +405 | Unincorporated Areas of Butler County.
Indian Camp Creek (Backwater effects from Green River) | From the confluence with the Green River to approximately 1.1 mile downstream of Dexterville-Gilstrap Road | +415 | Unincorporated Areas of Butler County.
Lindsey Creek (Backwater effects from Green River) | From the confluence with East Prong Indian Camp Creek to approximately 0.4 mile downstream of Brownsville Road | +415 | Unincorporated Areas of Butler County.
Little Bull Creek (Backwater effects from Green River) | From the confluence with the Green River to approximately 0.6 mile upstream of the confluence with Tallow Branch | +425 | Unincorporated Areas of Butler County.
Little Reedy Creek (Backwater effects from Green River) | From the confluence with the Green River to approximately 0.9 mile upstream of the confluence with Rosy Creek | +429 | Unincorporated Areas of Butler County.
Meffords Branch (Backwater effects from Green River) | From the confluence with the Mud River to approximately 1,425 feet upstream of Perry Harper Road | +404 | Unincorporated Areas of Butler County.
Meffords Branch Tributary 4 (Backwater effects from Green River) | From the confluence with Meffords Branch to approximately 0.6 mile upstream of the confluence with Meffords Branch | +404 | Unincorporated Areas of Butler County.
Mud River (Backwater effects from Green River) | From the confluence with the Green River to approximately 2.2 miles upstream of the confluence with Deerlick Creek | +404 | Unincorporated Areas of Butler County, City of Rochester.
Mud River Tributary 17 (Backwater effects from Green River) | From the confluence with the Green River to approximately 314 feet upstream of Rochester Road | +404 | Unincorporated Areas of Butler County, City of Rochester.
Mud River Tributary 17.2 (Backwater effects from Green River) | From the confluence with Mud River Tributary 17 to approximately 312 feet upstream of Rochester Road | +404 | Unincorporated Areas of Butler County.
Muddy Creek (Backwater effects from Green River) | From the confluence with the Green River to approximately 877 feet upstream of the confluence with Muddy Creek Tributary 18 | +407 | Unincorporated Areas of Butler County.
Muddy Creek Tributary 18 (Backwater effects from Green River) | From the confluence with Muddy Creek to approximately 1,306 feet upstream of the confluence with Muddy Creek | +407 | Unincorporated Areas of Butler County.
Muddy Creek Tributary 27 (Backwater effects from Green River) | From the confluence with Muddy Creek to approximately 1,421 feet downstream of Muddy Creek Tributary 27.2 | +407 | Unincorporated Areas of Butler County.
Muddy Creek Tributary 39.1 (Backwater effects from Green River) | From the confluence with Muddy Creek to approximately 669 feet downstream of Muddy Creek Tributary 39.1 | +407 | Unincorporated Areas of Butler County.
Panther Creek (Backwater effects from Green River) | From the confluence with the Green River to approximately 1,550 feet downstream of G. Southerland Road | +405 | Unincorporated Areas of Butler County.
Pipe Spring Hollow (Backwater effects from Green River) | From the confluence with the Green River to just downstream of William H. Natcher Parkway | +408 | Unincorporated Areas of Butler County.
Pitman Creek (Backwater effects from Green River) | From the confluence with Welch Creek to approximately 554 feet upstream of the confluence with Pitman Creek Tributary 3 | +419 | Unincorporated Areas of Butler County.
Pitman Creek Tributary 3 (Backwater effects from Green River) | From the confluence with Pitman Creek to approximately 280 feet upstream of the confluence with Pitman Creek | +419 | Unincorporated Areas of Butler County.
Renfrow Creek (Backwater effects from Green River) | From the confluence with the Green River to approximately 177 feet downstream of Bowling Green Road | +419 | Unincorporated Areas of Butler County.
Renfrow Creek Tributary 6 (Backwater effects from Green River) | From the confluence with Renfrow Creek to approximately 1,236 feet downstream of Embry Way | +419 | Unincorporated Areas of Butler County.
Renfrow Creek Tributary 7 (Backwater effects from Green River) | From the confluence with Renfrow Creek to just downstream of South Main Street | +419 | Unincorporated Areas of Butler County.
Renfrow Creek Tributary 8 (Backwater effects from Green River) | From the confluence with Renfrow Creek to approximately 0.5 mile upstream of the confluence with Renfrow Creek | +419 | Unincorporated Areas of Butler County.
Renfrow Creek Tributary 9 (Backwater effects from Green River) | From the confluence with Renfrow Creek to just upstream of East Whalen Road | +419 | Unincorporated Areas of Butler County.
Rosy Creek (Backwater effects from Green River) | From the confluence with Little Reedy Creek to approximately 0.7 mile upstream of the confluence with Little Reedy Creek | +429 | Unincorporated Areas of Butler County.
Sandy Creek (Backwater effects from Green River) | From the confluence with Muddy Creek to approximately 494 feet downstream of Martin Road | +407 | Unincorporated Areas of Butler County.
Sandy Creek Tributary 5 (Backwater effects from Green River) | From the confluence with Sandy Creek to just upstream of Dunbar-Leetown Road | +407 | Unincorporated Areas of Butler County.
Tallow Branch (Backwater effects from Green River) | From the confluence with Little Bull Creek to approximately 0.5 mile upstream of the confluence with Little Bull Creek | +426 | Unincorporated Areas of Butler County.
Welch Creek (Backwater effects from Green River) | From the confluence with the Green River to just downstream of Brownsville Road | +419 | Unincorporated Areas of Butler County.
West Prong Indian Camp Creek (Backwater effects from Green River) | From the confluence with Indian Camp Creek to approximately 3.7 miles upstream of the confluence with Indian Camp Creek | +414 | Unincorporated Areas of Butler County.
Wolfpen Hollow (Backwater effects from Green River) | From the confluence with East Prong Indian Camp Creek to approximately 1,205 feet downstream of McKendree Chapel Road | +415 | Unincorporated Areas of Butler County.
* National Geodetic Vertical Datum.
+ North American Vertical Datum.
# Depth in feet above ground.
‸ Mean Sea Level, rounded to the nearest 0.1 meter.
ADDRESSES
City of Woodbury
Maps are available for inspection at 1 Lock 4 Road, Woodbury, KY 42288.
City of Morgantown
Maps are available for inspection at City Hall, 117 North Main Street, Morgantown, KY 42261.
City of Rochester
Maps are available for inspection at City Hall, 672 Russellville Street, Rochester, KY 42273.
Unincorporated Areas of Butler County
Maps are available for inspection at the County Courthouse, 110 North Main Street, Morgantown, KY 42261
Scott County, Kentucky, and Incorporated Areas
Docket No.: FEMA-B-1089
Dry Run | Approximately 0.5 mile upstream of the North Elkhorn Creek confluence | +801 | City of Georgetown, Unincorporated Areas of Scott County.
| Approximately 1.2 miles upstream of Burton Pike | +880
Dry Run Tributary 1 (backwater effects from Dry Run) | From the Dry Run confluence to approximately 0.3 mile downstream of I-75 | +828 | Unincorporated Areas of Scott County.
Hall Branch (backwater effects from Eagle Creek) | From the Eagle Creek confluence to approximately 0.3 mile upstream of Hinton-Sadieville Road | +780 | Unincorporated Areas of Scott County.
Lane Run | At the North Elkhorn Creek confluence | +811 | City of Georgetown, Unincorporated Areas of Scott County.
| Approximately 850 feet upstream of Delaplain Road | +889
McCracken Creek (backwater effects from North Elkhorn Creek) | From the North Elkhorn Creek confluence to approximately 269 feet downstream of the McCracken Creek Tributary 2 confluence | +782 | City of Georgetown, Unincorporated Areas of Scott County.
Royal Springs Creek (backwater effects from North Elkhorn Creek) | From the North Elkhorn Creek confluence to approximately 0.4 mile upstream of Paddler Lane | +798 | City of Georgetown, Unincorporated Areas of Scott County.
South Elkhorn Creek | Just downstream of South Weisenberger Mill Road | +813 | Unincorporated Areas of Scott County.
| At the Town Branch confluence | +816
Spoon Branch (backwater effects from Eagle Creek) | From the Eagle Creek confluence to approximately 783 feet upstream of Sadieville Road | +778 | City of Sadieville, Unincorporated Areas of Scott County.
Town Branch (backwater effects from South Elkhorn Creek) | From the South Elkhorn Creek confluence to approximately 0.4 mile upstream of the South Elkhorn Creek confluence | +816 | Unincorporated Areas of Scott County.
* National Geodetic Vertical Datum.
+ North American Vertical Datum.
# Depth in feet above ground.
‸ Mean Sea Level, rounded to the nearest 0.1 meter.
ADDRESSES
City of Georgetown
Maps are available for inspection at City Hall, 100 Court Street, Georgetown, KY 40324.
City of Sadieville
Maps are available for inspection at City Hall, 605 Pike Street, Sadieville, KY 40370.
Unincorporated Areas of Scott County
Maps are available for inspection at 100 East Main Street, Georgetown, KY 40324.
Schenectady County, New York (All Jurisdictions)
Docket No.: FEMA-B-1184
Lisha Kill | Approximately 1,825 feet downstream of New York Route 7 (Troy-Schenectady Road) | +238 | Town of Niskayuna.
| At the Albany County boundary | +269
Mohawk River | At Canadian Pacific Railway Bridge | +225 | City of Schenectady, Town of Glenville, Town of Rotterdam, Village of Scotia.
| Approximately 1.08 miles downstream of Lock 8 | +231
Normans Kill | Approximately 1.15 miles downstream of Giffords Church Road | +276 | Town of Princetown.
| Approximately 1.16 miles upstream of Giffords Church Road | +292
Poentic Kill | At the Mohawk River confluence | +231 | City of Schenectady, Town of Rotterdam
| Approximately 0.93 mile upstream of Campbell Road | +306
Schoharie Creek | Approximately 3.23 miles downstream of U.S. Route 20 | +541 | Town of Duanesburg
| Approximately 3.13 miles upstream of U.S. Route 20 | +590
* National Geodetic Vertical Datum.
+ North American Vertical Datum.
# Depth in feet above ground.
‸ Mean Sea Level, rounded to the nearest 0.1 meter.
ADDRESSES
City of Schenectady
Maps are available for inspection at City Hall, 105 Jay Street, Schenectady, NY 12305.
Town of Duanesburg
Maps are available for inspection at the Town Hall, 5853 Western Turnpike, Duanesburg, NY 12056.
Town of Glenville
Maps are available for inspection at the Municipal Center, 18 Glenridge Road, Glenville, NY 12302.
Town of Niskayuna
Maps are available for inspection at the Town Hall, 1 Niskayuna Circle, Niskayuna, NY 12309.
Town of Princetown
Maps are available for inspection at the Princetown Town Hall, 165 Princetown Plaza, Schenectady, NY 12306.
Town of Rotterdam
Maps are available for inspection at the John F. Kirvin Government Center, 1100 Sunrise Boulevard, Rotterdam, NY 12306.
Village of Scotia
Maps are available for inspection at the Village Hall, 4 North Ten Broeck Street, Scotia, NY 12302.

(Catalog of Federal Domestic Assistance No. 97.022, “Flood Insurance.”)

Dated: July 26, 2013.
Roy E. Wright,
Deputy Associate Administrator for Mitigation, Department of Homeland Security, Federal Emergency Management Agency.

[FR Doc. 2013-19401 Filed 8-9-13; 8:45 am]

BILLING CODE 9110-12-P